ENVIRONMENTAL PROTECTION AGENCY

[EPA-HQ-OPP-2021-0293; FRL-10023-74]

Nominations to the Federal Insecticide, Fungicide, and Rodenticide Act Scientific Advisory Panel; Request for Comments

AGENCY: Environmental Protection Agency (EPA).

ACTION: Notice.

SUMMARY: This notice provides the names, addresses, and professional affiliations of persons recently nominated to serve on the Scientific Advisory Panel (SAP) established under the Federal Insecticide, Fungicide, and Rodenticide Act (FIFRA). The Panel was created on November 28, 1975, and made a permanent Panel by amendment to FIFRA, dated October 25, 1988. The Agency, at this time, anticipates selecting new members to serve on the panel because of the upcoming expirations of membership terms. Current members of the SAP are eligible for reappointment during this period. Therefore, the appointments completed over the next year may include a mix of newly appointed and reappointed members. As additional background, the biographies of current SAP members are available on the FIFRA SAP website at: https://www.epa.gov/sap. Public comments on the current nominations are invited, as these comments will be used to assist the Agency in selecting the new members for the chartered SAP.

DATES: Comments identified by docket ID number EPA-HQ-OPP-2021-0293, must be received on or before June 21, 2021.

ADDRESSES: Submit your comments, identified by docket identification (ID) number EPA-HQ-OPP-2021-0293, using the Federal eRulemaking Portal at https://www.regulations.gov. Follow the online instructions for submitting comments. Do not electronically submit any information you consider to be Confidential Business Information (CBI) or information whose disclosure is restricted by statute. Comments submitted to the EPA, including any personal information that is in the body of the submission, will be publicly posted to https://www.regulations.gov and are also made available for in-person viewing at the EPA Docket Center's Reading Room. There are some exceptions. Please see additional instructions on commenting or visiting the docket, along with more information about dockets generally, available at http://www.epa.gov/dockets.

Please note that due to the public health concerns related to COVID-19, the EPA Docket Center (EPA/DC) and Public Reading Room are closed to visitors with limited exceptions. The EPA/DC staff continue to provide remote customer service via email, phone, and webform. For the latest status information on EPA/DC services and docket access, visit https://www.epa.gov/dockets.

FOR FURTHER INFORMATION CONTACT: Steven Knott, M.S., Designated Federal Officer (DFO), Office of Program Support, Environmental Protection Agency; telephone number: (202) 564-0103; email address: knott.steven@epa.gov.

SUPPLEMENTARY INFORMATION:

I. General Information

A. Does this action apply to me?

This action is directed to the public in general. This action may, however, be of interest to persons who are or may be required to conduct testing of chemical substances under the Federal Food, Drug, and Cosmetic Act (FFDCA) and FIFRA. Given other entities may also be interested, the Agency has not attempted to describe all the specific entities that may be affected by this action. If you have any questions regarding the applicability of this action to a particular entity, consult the DFO listed under FOR FURTHER INFORMATION CONTACT.

B. What should I consider as I prepare my comments for EPA?

1. Submitting CBI. Do not submit CBI information to EPA through regulations.gov or email. If your comments contain any information that you consider to be CBI or otherwise protected, please contact the DFO listed under FOR FURTHER INFORMATION CONTACT to obtain special instructions before submitting your comments.

2. Tips for preparing your comments. When preparing and submitting your comments, see the commenting tips at https://www.epa.gov/dockets/commenting-epa-dockets#tips.

II. Background

The FIFRA SAP serves as a scientific peer review mechanism of EPA's Office of Chemical Safety and Pollution Prevention (OCSPP) and is structured to provide independent scientific advice, information, and recommendations to the EPA Administrator on pesticides and pesticide-related issues as to the impact of regulatory actions on health and the environment. The FIFRA SAP is a federal advisory committee established in 1975 under FIFRA that operates in accordance with requirements of the Federal Advisory Committee Act (5 U.S.C. Appendix). The FIFRA SAP is composed of a permanent panel consisting of seven members who are appointed by the EPA Administrator from nominees provided by the National Institutes of Health (NIH) and the National Science Foundation (NSF). Members serve staggered terms of appointment, generally of three to six years duration. FIFRA established a Science Review Board (SRB) consisting of at least 60 scientists who are available to the FIFRA SAP on an ad hoc basis to assist in reviews conducted by the FIFRA SAP. As a scientific peer review mechanism, the FIFRA SAP provides comments, evaluations, and recommendations to improve the effectiveness and quality of analyses made by Agency scientists. Members of the FIFRA SAP are scientists who have sufficient professional qualifications, including training and experience, to provide expert advice and recommendations to the Agency.

III. Charter

A Charter for the FIFRA SAP, dated October 17, 2020, was issued in accordance with the requirements of the Federal Advisory Committee Act, Public Law 92-463, 86 Stat. 770 (5 U.S.C. Appendix). The Charter provides for open meetings with opportunities for public participation.

IV. Nominees

A. Qualifications of Members

Members are scientists who have sufficient professional qualifications, including training and experience, to provide expert comments on the impact of pesticides on human health and the environment. In accordance with section 25(d)(1) of FIFRA, the Administrator shall require nominees to the FIFRA SAP to furnish information concerning their professional qualifications, including educational background, employment history, and scientific publications. No persons shall be ineligible to serve on the FIFRA SAP by reason of their membership on any other advisory committee to a federal department or agency, or their employment by a federal department or agency (except the EPA). FIFRA further stipulates that the Agency publish the name, address, and professional affiliation of the nominees in the Federal Register.

B. Applicability of Existing Regulations

With respect to the requirements of section 25(d) of FIFRA that the Administrator promulgate regulations regarding conflicts of interest, FIFRA SAP members are subject to the provisions of the Standards of Ethical Conduct for Employees of the Executive Branch at 5 Code of Federal Regulations Part 2635, conflict of interest statutes in Title 18 of the United States Code, and related regulations. Each nominee selected by the Administrator, before being formally appointed, is required to submit a Confidential Financial Disclosure Form, which shall fully disclose, among other financial interests, the nominee's sources of research support, if any.

C. Process of Obtaining Nominees

The Agency, at this time, anticipates selecting new members to serve on the panel to address upcoming expirations of membership terms.

On February 5, 2021, in accordance with the provisions of section 25(d) of FIFRA, EPA requested that the NIH and the NSF nominate scientists to fill vacancies occurring on the FIFRA SAP. The Agency requested that NIH and NSF nominate experts in the fields of ecological and human exposure assessment, including expertise in environmental fate and transport of chemicals, mathematical biostatistics, New Approach Methodologies (NAMs), including in vitro to in vivo extrapolation (IVIVE), and expertise in toxicology, including carcinogenicity and physiologically-based pharmacokinetic modeling (PBPK). Experts with specific experience in risk assessment, dose response analysis, cheminformatics, bioinformatics, and genomics are preferred. Nominees should be well published and current in their fields of expertise.

NIH and NSF responded, providing the Agency with a total of 25 nominees. One nominee, Dr. Jeffrey Bloomquist, Ph.D., of the University of Florida is a member of the FIFRA SAP with a current term ending in 2022. Therefore, he is not considered further at this time. Of the remaining 24 nominees, 10 are interested and available to actively participate in FIFRA SAP meetings (see Unit IV.D.).

The following 14 individuals are not available to be considered further for membership at this time:

1. Joseph Braun, Ph.D., Brown University, Providence, Rhode Island.

2. Brenda Eskanazi, Ph.D., University of California-Berkeley, Berkeley, California.

3. Elaine Faustman, Ph.D., University of Washington, Seattle, Washington.

4. Phillipe Grandjean, Ph.D., Harvard T.H. Chan School of Public Health, Boston, Massachusetts.

5. Paul Hollenberg, Ph.D., University of Michigan Medical School, Ann Arbor, Michigan.

6. Mary K. O'Rourke, Ph.D., University of Arizona, Tucson, Arizona.

7. Angela Peace, Ph.D., Texas Tech University, Lubbock, Texas.

8. Kenneth Portier, Ph.D., Independent Consultant, Atlanta, Georgia.

9. Jason Rohr, Ph.D., University of Notre Dame, Notre Dame, Indiana.

10. Nathaniel Scholz, Ph.D., NOAA Northwest Fisheries Science Center, Seattle, Washington.

11. Ronald Tjeerdema, Ph.D., University of California-Davis, Davis, California.

12. Tim Verslycke, Ph.D., Gradient Corp., Boston, Massachusetts.

13. Christopher P. Weis, Ph.D., National Institute of Environmental Health Sciences, Bethesda, Maryland.

14. William Wuest, Ph.D., Emory University, Atlanta, Georgia.

D. Interested and Available Nominees

The following are the names, addresses, and professional affiliations of current nominees being considered for membership on the FIFRA SAP. Selected biographical data for each nominee is available in the public docket at www.regulations.gov (docket identification (ID) number EPA-HQ-OPP-2021-0293) and through the FIFRA SAP website at https://www.epa.gov/sap. The Agency, at this time, anticipates selecting new members to fill upcoming vacancies occurring on the Panel:

1. Dana Barr, Ph.D., Emory University, Atlanta, Georgia.

2. Veronica Berrocal, Ph.D., University of California, Irvine, California.

3. Asa Bradman, Ph.D., University of California, Berkeley, California.

4. Glenn Allen Burton, Ph.D., University of Michigan, Ann Arbor, Michigan.

5. Celia Chen, Ph.D., Dartmouth College, Hanover, New Hampshire.

6. Richard DiGiulio Ph.D., Duke University, Durham, North Carolina.

7. Valery Forbes, Ph.D., University of Minnesota, Minneapolis, Minnesota.

8. Cheryl A. Murphy, Ph.D., Michigan State University, East Lansing, Michigan.

9. Virginia Rauh, Ph.D., Columbia University, New York, New York.

10. Lisa M. Sweeney, Ph.D., UES, Inc., Dayton, Ohio.

Authority: 7 U.S.C. 136 et. seq.; 21 U.S.C. 301 et seq.; 5 U.S.C. Appendix.

Dated: May 17, 2021.
Michal Freedhoff,
Principal Deputy Assistant Administrator, Office of Chemical Safety and Pollution Prevention.

[FR Doc. 2021-10743 Filed 5-20-21; 8:45 am]

BILLING CODE 6560-50-P